DEPARTMENT OF THE INTERIOR

Bureau of Land Management

[LLUTC01000—16100000—LXSS005J0000]

Notice of Intent To Prepare a Resource Management Plan for the Cedar City Field Office, Utah, and Associated Environmental Impact Statement

AGENCY: Bureau of Land Management, Interior.

ACTION: Notice of intent.

SUMMARY: In compliance with the National Environmental Policy Act of 1969, as amended, and the Federal Land Policy and Management Act of 1976, as amended, the Bureau of Land Management (BLM) Cedar City Field Office, Cedar City, Utah, intends to prepare a Resource Management Plan (RMP) with an associated Environmental Impact Statement (EIS) for the Cedar City Field Office. This notice announces the beginning of the scoping process to solicit public comments and identify issues. The RMP will replace the existing Cedar-Beaver-Garfield-Antimony RMP (1986) and Pinyon Management Framework Plan (1983).

DATES: This notice initiates the public scoping process for the RMP with associated EIS. Comments on issues may be submitted in writing until December 9, 2010. The date(s) and location(s) of any scoping meetings will be announced at least 15 days in advance through local media outlets and through the Cedar City BLM Web site at: http://www.blm.gov/ut/st/en/fo/cedar_city.html. In order to be included in the Draft RMP/EIS, all comments must be received prior to the close of the scoping period or 15 days after the last public meeting, whichever is later. We will provide additional opportunities for public participation upon publication of the Draft RMP/EIS.

ADDRESSES: You may submit comments on issues and planning criteria related to the Cedar City RMP/EIS by any of the following methods:

• Web site: http://www.blm.gov/ut/st/en/fo/cedar_city.html.

• E-mail: utccrmp@blm.gov.

• Fax: 435-865-3058.

• Mail: 176 East DL Sargent Drive, Cedar City, Utah 84721.

Documents pertinent to this proposal may be examined at the Cedar City Field Office.

FOR FURTHER INFORMATION CONTACT: For further information and/or to have your name added to our mailing list, contact Keith Rigtrup, Project Manager, telephone: 435-586-2401; address: 176 East DL Sargent Drive, Cedar City, Utah 84721; e-mail: utccrmp@blm.gov.

SUPPLEMENTARY INFORMATION: This document provides notice that the BLM Field Office, Cedar City, Utah, intends to prepare an RMP with an associated EIS for the Cedar City Field Office; announces the beginning of the scoping process; and seeks public input on issues and planning criteria. The planning area is located in Beaver, Iron, and Washington Counties, Utah, and encompasses approximately 2.1 million acres of public land. The purpose of the public scoping process is to determine relevant issues that will influence the scope of the environmental analysis, including alternatives, and to guide the planning process. Preliminary issues for the planning area have been identified by BLM personnel; Federal, state, and local agencies; and other stakeholders. The issues include: Renewable energy development for geothermal, wind, and solar power; management of [site type] rights-of-way for renewable energy and other uses; visual resource management; evaluation of potential new Areas of Critical Environmental Concern (ACEC); Wild and Scenic River recommendations; Off-Highway Vehicle Area Designations; Special Recreation Management Areas; Wild Horse and Burro management; consideration of non-Wilderness Study Area lands with wilderness characteristics; and fluid and solid minerals management, including stipulations to protect sensitive resources. Preliminary planning criteria include:

1. Lands addressed in the RMP will be public lands (including split estate lands) managed by the BLM. There will be no decisions in the RMP for lands not managed by the BLM.

2. The BLM will use a collaborative and multi-jurisdictional approach, where possible, to determine the desired future condition of public lands.

3. The BLM will ensure compliance with all applicable local, state, tribal, and Federal air quality laws, statutes, regulations, standards, and implementation plans and include an analysis of climate change.

4. Areas potentially suitable for ACECs and other special management designations will be identified and brought forward for analysis in the RMP. Public nominations will be requested.

5. All river segments will be considered, and determinations of eligibility, suitability, tentative classification, and protective management will be made in accordance with Section 5(d) of the Wild and Scenic Rivers Act and BLM Manual Section 8351. Public nominations will be requested.

6. Herd Areas will be identified and boundaries for Wild Horse Herd Management Areas will be addressed in the plan.

7. Decisions of the RMP will be consistent with the goals and objectives of the legislation designating the Old Spanish National Historic Trail.

Parties interested in leasing and development of Federal coal in the planning area should provide coal resource data for their area(s) of interest. Specifically, information is requested on the location, quality, and quantity of Federal coal with development potential, and on surface resource values related to the 20 coal unsuitability criteria described in 43 CFR part 3461. This information will be used for any necessary updating of coal screening determinations (43 CFR 3420.1-4) in the Decision Area and in the environmental analysis. You may submit comments on issues and planning criteria in writing to the BLM at any public scoping meeting, or you may submit them to the BLM using one of the methods listed in the ADDRESSES section above. To be most helpful, you should submit comments before the close of the comment period or within 15 days after the last public meeting. Before including your address, phone number, e-mail address, or other personal identifying information in your comment, you should be aware that your entire comment—including your personal identifying information—may be made publicly available at any time. While you can ask us in your comment to withhold your personal identifying information from public review, we cannot guarantee that we will be able to do so. The minutes and list of attendees for each scoping meeting will be available to the public and open for 30 days after the meeting to any participant who wishes to clarify the views he or she expressed. The BLM will evaluate identified issues to be addressed in the plan, and will place them into one of three categories:

1. Issues to be resolved in the plan;

2. Issues to be resolved through policy or administrative action; or

3. Issues beyond the scope of this plan.

The BLM will provide an explanation in the Draft RMP/EIS as to why an issue was placed in category two or three. The public is also encouraged to help identify any management questions and concerns that should be addressed in the plan. The BLM will work collaboratively with interested parties to identify the management decisions that are best suited to local, regional, and national needs and concerns. The BLM will use an interdisciplinary approach to develop the plan in order to consider the variety of resource issues and concerns identified. Specialists with expertise in the following disciplines will be involved in the planning process: rangeland management, air quality, minerals and geology, forestry, outdoor recreation, archaeology, paleontology, wildlife and fisheries, lands and realty, hydrology, soils, sociology and economics, wildland fire, and public affairs.

Authority: 40 CFR 1501.7 and 43 CFR 1610.2. Approved:

Jeff Rawson,
Associate State Director.

[FR Doc. 2010-22607 Filed 9-9-10; 8:45 am]

BILLING CODE 4310-DQ-P